DEPARTMENT OF TRANSPORTATION

National Highway Traffic Safety Administration

[U.S. DOT Docket No. NHTSA-2011-0170]

Reports, Forms, and Record Keeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections.

This document describes the collection of information for which NHTSA intends to seek OMB approval.

DATES: Comments must be received on or before February 14, 2012.

ADDRESSES: You may submit comments identified by DOT Docket ID Number NHTSA-2011-0068 using any of the following methods:

Electronic submissions: Go to http://www.regulations.gov. Follow the on-line instructions for submitting comments.

Mail: Docket Management Facility, M-30, U.S. Department of Transportation, 1200 New Jersey Avenue SE., West Building Ground Floor, Room W12-140, Washington, DC 20590.

Hand Delivery: West Building Ground Floor, Room W12-140, 1200 New Jersey Avenue SE., Washington, DC, between 9 a.m. and 5 p.m., Monday through Friday, except Federal holidays.

Fax: 1-(202) 493-2251.

Instructions: Each submission must include the Agency name and the Docket number for this Notice. Note that all comments received will be posted without change to http://www.regulations.gov including any personal information provided.

FOR FURTHER INFORMATION CONTACT: Ms. Carole Guzzetta, Contracting Officer's Technical Representative, Office of Behavioral Safety Research (NTI-131), National Highway Traffic Safety Administration, 1200 New Jersey Avenue SE., W46-499, Washington, DC 20590. Ms. Guzzetta's phone number is (202) 366-6401 and her email address is carole.guzzetta@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In compliance with these requirements, NHTSA asks public comment on the following proposed collection of information:

Effectiveness of Child passenger Safety Information for the Safe Transportation of Children

Type of Request—New information collection requirement.

OMB Clearance Number—None.

Form Number—NHTSA Form.

Requested Expiration Date of Approval—3 years from date of approval.

Summary of the Collection of Information—The National Highway Traffic Safety Administration (NHTSA) proposes to collect information from parents and caregivers of children less than 13 years of age about their knowledge, behavior, and perceptions of various child passenger safety messages. Participation in the study will be voluntary. Parents and caregivers will be recruited at various locations where they often go with child passengers (e.g., child care centers). They will be asked to participate in the study which will require them to go to a computer lab center and read and respond to Child Passenger Safety (CPS) messages and questions on a personal computer. A project assistant will be present to answer all questions that participants might have. The following data will be collected: demographic information on parents/caregivers and their children; parent/caregiver understanding of the CPS messages shown to them; and parent/caregiver perception of safest behavior to follow for properly restraining their children depending on their children's age. At the conclusion of the survey, participants will receive information on child passenger safety and specific information regarding the locations of inspection stations and car seat check events that are available in the area. An incentive will also be given to all participants.

The participants would respond to the proposed surveys using touch-screen computers to reduce survey length and minimize recording errors. No personally identifiable information will be collected during the surveys.

Description of the Need for the Information and Proposed Use of the Information—NHTSA was established to reduce the number of deaths, injuries, and economic losses resulting from motor vehicle crashes on the Nation's highways. As part of this statutory mandate, NHTSA is authorized to conduct research as a foundation for the development of motor vehicle standards and traffic safety programs.

In support of this mission, NHTSA proposes to collect information from parents and caregivers on their understanding and perceptions of child passenger safety messages. The response information is necessary to determine the most effective CPS messages that would influence parents and caregivers to seek the most appropriate restraint systems for their children (less than 13 years of age). In addition, NHTSA will publish the findings of this research study to provide information to States, localities, and other interested organizations in support of their efforts to reduce and prevent injuries among child occupants.

Description of the Likely Respondents (Including Estimated Number, and Proposed Frequency of Response to the Collection of Information)—NHTSA proposes to conduct computer-generated response tests with 600 parents and caregivers of young children less than 13 years of age. Data collection is expected to take place over a 3 month period in the Summer and Fall of 2012.

Estimate of the Total Annual Reporting and Record Keeping Burden Resulting from the Collection of Information—Each of the 600 participant testing sessions will last approximately 75 minutes including the initial introduction and instruction. Data collection is expected to take place over a three-month period during 2012. Therefore, the estimated annual burden is 750 hours. The participants would not incur any reporting cost from the information collection. The participants also would not incur any record keeping burden or record keeping cost from the information collection.

Authority: 44 U.S.C. Section 3506(c)(2)(A).

Jeffrey Michael,
Associate Administrator, Research and Program Development.

[FR Doc. 2011-32295 Filed 12-15-11; 8:45 am]

BILLING CODE 4910-59-P